DEPARTMENT OF DEFENSE

Office of the Secretary

Meeting of the Defense Department Advisory Committee on Women in the Services (DACOWITS)

AGENCY: Department of Defense.

ACTION: Notice.

SUMMARY: Pursuant to Section 10(a), Public Law 92-463, as amended, notice is hereby given of a forthcoming meeting of the Defense Department Advisory Committee on Women in the Services (DACOWITS). The purpose of the Committee meeting is to receive briefings and have panel discussions on subjects pertaining to the 2008 topics. The meeting is open to the public, subject to the availability of space.

DATES: May 15, 2008 (8:30 a.m.-5 p.m.) and May 16, 2008 (8:30 a.m.-5 p.m.)

ADDRESSES: Double Tree Hotel Crystal City National Airport, 300 Army Navy Drive, Arlington, VA 22202.

FOR FURTHER INFORMATION CONTACT: MSgt Robert Bowling, USAF, DACOWITS, 4000 Defense Pentagon, Room 2C548A, Washington, DC 20301-4000. Robert.bowling@osd.mil Telephone (703) 697-2122. Fax (703) 614-6233.

SUPPLEMENTARY INFORMATION:

Meeting Agenda

Thursday, May 15, 2008, 8:30 a.m.-5 p.m.

—Welcome & Administrative Remarks.

—Success Strategies Panel With Senior Military Members.

—Briefing—Navy “Quality of Life” Task Force Report.

—Briefing—Army Research Institute SSMP 2007.

—Lunch & Briefing—Marine Corps Mentors Program.

—Success Strategies Panel with Civilians.

—Briefing—DoD Equal Opportunity Office of Diversity.

—Briefing—Status of Forces.

—Briefing—Elite Military Women's Strategies of Success.

—Public Forum.

Friday, May 16, 2008, 8:30 a.m.-5 p.m.

—Welcome and Administrative Remarks.

—Review 2008 Installation Visits.

—Briefing—Army Child Education Initiatives and Opportunities.

—Briefing—Navy Child Education Initiatives and Opportunities.

—Lunch & Briefing—Marine Corps Child Education Initiatives and Opportunities.

—Briefing—Air Force Child Education Initiatives and Opportunities.

—Briefing—Coast Guard Child Education Initiatives and Opportunities.

—Briefing—Dept. of Education Charter School Opportunities.

—Briefing—Center for Education Reform.

—Briefing—North American Council for On-Line Learning.

—Wrap Up.

Note: Exact order may vary.

Interested persons may submit a written statement for consideration by the Defense Department Advisory Committee on Women in the Services. Individuals submitting a written statement must submit their statement to the Point of Contact at the address listed above NLT 5 p.m., Tuesday, May 13, 2008. If a written statement is not received by Tuesday, May 13, 2008, prior to the meeting, which is the subject of this notice, then it may not be provided to or considered by the Defense Department Advisory Committee on Women in the Services until its next open meeting. The Designated Federal Officer will review all timely submissions with the Defense Department Advisory Committee on Women in the Services Chairperson and ensure they are provided to the members of the Defense Department Advisory Committee on Women in the Services. If members of the public are interested in making an oral statement, a written statement must be submitted as detailed above. After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Thursday, May 15, 2008, from 4:45 p.m. to 5 p.m. before the full Committee. Number of oral presentations to be made will depend on the number of requests received from members of the public.

Dated: April 29, 2008.
Patricia L. Toppings,
OSD Federal Register Liaison Officer, Department of Defense.

[FR Doc. E8-9801 Filed 5-2-08; 8:45 am]

BILLING CODE 5001-06-P